DEPARTMENT OF COMMERCE

International Trade Administration

15 CFR Part 326

[Docket No. 240226-0059]

RIN 0625-AB24

The U.S. and Foreign Commercial Service Pilot Fellowship Program; Correction

AGENCY: International Trade Administration, Department of Commerce.

ACTION: Final rule; correction.

SUMMARY: The International Trade Administration is correcting a final rule published in the Federal Register on May 7, 2024, regarding The U.S. and Foreign Commercial Service Pilot Fellowship Program. This correction applies to the effective date of final rule.

DATES: Effective May 15, 2024.

FOR FURTHER INFORMATION CONTACT: Wendy Thompson at wendy.thompson@trade.gov or 202-754-4075.

SUPPLEMENTARY INFORMATION: In FR Doc. 2024-09863, on page 37972 in the Federal Register of Tuesday, May 7, 2024, in the second column, correct the DATES caption by adding “, 2024” after “May 6”.

Dated: May 8, 2024
Kimberly White-Bacon,
Program Manager.

[FR Doc. 2024-10561 Filed 5-14-24; 8:45 am]

BILLING CODE 3510-FP-P